DEPARTMENT OF COMMERCE

International Trade Administration

[A-570-831]

Fresh Garlic from the People's Republic of China: Partial Rescission of the 13th Antidumping Duty Administrative Review

AGENCY: Import Administration, International Trade Administration, Department of Commerce.

EFFECTIVE DATE: November 21, 2008.

FOR FURTHER INFORMATION CONTACT: Scott Lindsay or Summer Avery, AD/CVD Operations, Office 6, Import Administration, International Trade Administration, U.S. Department of Commerce, 14th Street and Constitution Avenue, NW, Washington DC 20230; telephone: (202) 482-0780 or (202) 482-4052, respectively.

Background

On December 27, 2007, the Department published a notice of initiation of an administrative review of fresh garlic from the People's Republic of China (“PRC”), covering the period November 1, 2006, through October 31, 2007. See Initiation of Antidumping and Countervailing Duty Administrative Reviews, 72 FR 73315 (December 27, 2007) (Initiation Notice).

On June 24, 2008, the Fresh Garlic Producers Association (“FGPA”) and its individual members¹ (collectively, “Petitioners”) partially withdrew their request for review of certain companies in this administrative review. On June 26, 2008, Petitioners submitted an amended partial withdrawal of request for review. In total, Petitioners withdrew their request for an administrative review for twenty-eight companies (see Attachment 1).

¹ The individual members of the FGPA are Christopher Ranch L.L.C., The Garlic Company, Valley Garlic, and Vessey and Company, Inc.

Partial Rescission

Pursuant to 19 CFR 351.213(d)(1), the Secretary will rescind an administrative review, in whole or in part, if a party that requested the review withdraws the request within 90 days of the date of publication of notice of initiation of the requested review. Further pursuant to 19 CFR 351.213(d)(1), the Department is permitted to extend this time limit if reasonable to do so. On March 27, 2008, the Department extended the deadline for the withdrawal of review requests to 30 days after the Department's receipt of the last response to the Department's initial questionnaire filed by any selected respondent in this review. On June 20, 2008, the Department further extended the deadline for the withdrawal of review requests to July 7, 2008.

Therefore, because Petitioners' withdrawal of requests for review was timely and no other party requested a review of the aforementioned companies, in accordance with 19 CFR 351.213(d)(1), we are rescinding this review with respect to the twenty-eight companies named in Attachment 1. In addition, the Initiation Notice inadvertently included two companies that were not included in Petitioners' original request for review, i.e., Anqui Friend Food Co., Ltd. (“Anqui Friend”) and Anqui Haoshun Trade Co., Ltd. (“Anqui Haoshun”). No other party requested a review of these two companies. Therefore, we are also rescinding the review of Anqui Friend and Anqui Haoshun. Thus, in sum, we are rescinding the review with respect to thirty companies.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice. For those companies for which this review has been rescinded but do not have a separate rate at this time (and thus remain part of the PRC-wide entity), the Department will issue assessment instructions upon the completion of this administrative review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which may be subject to sanctions.

This notice is issued and published in accordance with section 777(i)(1) of the Act and 19 CFR 351.213(d)(4).

Dated: November 17, 2008.
Stephen J. Claeys,
Deputy Assistant Secretary for Import Administration.

Attachment 1

1. Anqiu Haoshun Trade Co., Ltd.;

2. Golden Bridge International, Inc.;

3. Hebei Golden Bird Trading Co., Ltd.;

4. Henan Weite Industrial Co., Ltd.;

5. Henan Xingchang Sunny Foodstuff;

6. Heze Ever-Best International Trade Co., Ltd. (f/k/a Shandong Heze International Trade and Developing Company);

7. Huaiyang Hongda Dehydrated Vegetable Company;

8. Jinan Yipin Corporation, Ltd.;

9. Jinxiang Shanyang Freezing Storage Co., Ltd.;

10. Jinxiang Tianma Freezing Storage Co., Ltd.;

11. Jining Yongjia Trade Co., Ltd.;

12. Linshu Dading Private Agricultural Products Co., Ltd.;

13. Qingdao Aobeilin Import & Export Co.;

14. Qingdao Camel Trading Co., Ltd.;

15. Qingdao Longyuan Aquatic Products;

16. Qingdao Oasis International Trade Co.;

17. Qingdao Titan Shipping LLC;

18. Shandong Longtai Fruits and Vegetables Co., Ltd.;

19. Shandong Wonderland Organic Food Co., Ltd.;

20. Shanghai Ever Rich Trade Company;

21. Shenzhen Fanhui Import & Export Co., Ltd.;

22. Shenzhen Xinboda Industrial Co., Ltd.;

23. Sunny Import & Export Limited;

24. Taian Fook Huat Tong Kee Pte. Ltd.;

25. Taiyan Ziyang Food Co., Ltd.;

26. Weifang Hongqiao International Logistic Co., Ltd.;

27. XuZhou Simple Garlic Industry Co., Ltd.; and

28. Zhengzhou Harmoni Spice Co., Ltd.

[FR Doc. E8-27754 Filed 11-20-08; 8:45 am]

BILLING CODE 3510-DS-S